DEPARTMENT OF LABOR

Office of the Secretary

Submission for OMB Review; Comment Request

April 30, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contract Darrin King on (202) 693-4129 (this is non a toll-free number) of e-mail: king.darrin@dol.gov.

Comments should be sent to Office of Information and Regulatory Affairs, Attn: OMB Desk Office for the Mine Safety and Health Administration, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Title: Emergency Evacuations and Mine Emergency Evaluation and Fire-fighting Program of Instruction.

Type of Review: Extension of a currently approved collection.

OMB Number: 1219-0137.

Frequency: On occasion and Annually.

Type of Response: Recordkeeping and Reporting.

Affected Public: Business or other for-profit.

Number of Respondents: 664.

Annual Responses: 55,908.

Annual Burden Hours: 5,010.

Average Annual Response Time per Establishment: 7.5 hours.

Total Annualized capital/startup costs: $0.

Total annual costs (operating/maintaining systems or purchasing services): $320.00.

Description: MSHA's Emergency Temporary Standard; Final Rule 67 FR 239, Thursday, December 12, 2002) revises requirements for Emergency Evacuations of underground coal mines (30 CFR parts 48 and 75) by setting forth requirements that allow for miners and mine operators to rapidly and safely respond to emergency situations created by fire, explosion, or gas or water inundation hazards, and initiate an immediate mine evacuation when necessary to protect miners from the grave dangers of remaining underground or re-entering affected areas when hazards and conditions arise that endanger safety.

On December 11, 2002, OMB approved the information collection requirements contained in the Emergency Temporary Standard for the maximum period allowed under 5 CFR 1320.13 (“Emergency Processing”). Since the training, recordkeeping, and reporting requirements contained in the Emergency Temporary Standard are critical to safety of miners, MSHA is seeking to extend OMB approval for these information collection requirements under standard clearance procedures.

Ira L. Mills,
Departmental Clearance Officer.

[FR Doc. 03-11674 Filed 5-9-03; 8:45 am]

BILLING CODE 4510-43-M